DEPARTMENT OF ENERGY

Federal Energy Regulatory Commission

Notice of Application for Amendment of License and Soliciting Comments, Motions To Intervene, and Protests

June 7, 2002.

Take notice that the following application has been filed with the Commission and is available for public inspection:

a. Application Type: Amendment of License to Change Project Boundary and Approve Revised Exhibits.

b. Project No.: 2030-039.

c. Date Filed: January 30, and April 19, 2002.

d. Applicant: Portland General Electric Company (PGE) & The Confederated Tribes of Warm Springs Reservation of Oregon.

e. Name of Project: Pelton Hydroelectric.

f. Location: The project is located on the Deschutes River in Jefferson County, Oregon.

g. Filed Pursuant to: Federal Power Act, 16 U.S.C. 791 (a), 825(r), 799, and 801.

h. Applicant Contact: Ms. Julie Keil, Director, Hydro Licensing, Portland General Electric, 121 S. W. Salmon, Portland, OR 97204, tel (503) 464-8864.

i. FERC Contact: Any questions on this notice should be addressed to Mr. Mohamad Fayyad at (202) 219-2665, or e-mail address: mohamad.fayyad@ferc.gov.

j. Deadline for filing comments and or motions: July 8, 2002.

All documents (original and eight copies) should be filed with: Magalie R. Salas, Secretary, Federal Energy Regulatory Commission, 888 First Street, NE, Washington DC 20426. Please include the project number (P-2030-039) on any comments or motions filed.

k. Description of Request: The licensees are proposing to delete from the license the 100-mile-long, 230-kV Bethel-Round Butte transmission line, which the licensees say is part of PGE's interconnected transmission system. Also, the licensees request the deletion from project description the 3.2-mile-long, 69-kV line from the Re-regulating Dam to Warm Springs Substation, in compliance with a Commission order approving the sale of the line to PacificCorp, issued on November 3, 1994. The licensees say the Bethel-Round Butte transmission line occupies 475.3 acres of federal lands, in addition to 710.9 acres of Tribal lands within the Warm Springs Reservation.

l. Locations of the Application: A copy of the application is available for inspection and reproduction at the Commission's Public Reference Room, located at 888 First Street, NE, Room 2A, Washington, DC 20426, or by calling (202) 208-1371. This filing may also be viewed on the Web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Linwood A. Watson, Jr.,
Deputy Secretary.

[FR Doc. 02-14918 Filed 6-12-02; 8:45 am]

BILLING CODE 6717-01-P